DEPARTMENT OF COMMERCE

International Trade Administration

[A-552-802]

Certain Frozen Warmwater Shrimp From the Socialist Republic of Vietnam: Extension of Preliminary Results of Antidumping Duty Administrative Review

AGENCY: Import Administration, International Trade Administration, Department of Commerce.

DATES: Effective Date: January 20, 2012.

SUMMARY: The Department of Commerce (the “Department”) is extending the time limit for the preliminary results of the sixth administrative review of the antidumping duty order on certain frozen warmwater shrimp (“shrimp”) from the Socialist Republic of Vietnam (“Vietnam”) to February 28, 2012. The period of review (“POR”) is February 1, 2010, through January 31, 2011.

FOR FURTHER INFORMATION CONTACT: Toni Dach or Seth Isenberg, AD/CVD Operations, Office 9, Import Administration, International Trade Administration, U.S. Department of Commerce, 14th Street and Constitution Avenue NW., Washington, DC 20230; telephone: (202) 482-1655 and (202) 482-0588, respectively.

SUPPLEMENTARY INFORMATION:

Background

On March 31, 2011, the Department published in the Federal Register a notice of initiation of the administrative review of the antidumping duty order on certain frozen warmwater shrimp from Vietnam. See Initiation of Antidumping Duty Administrative Reviews, Requests for Revocation in Part, and Deferral of Administrative Review, 76 FR 17825 (March 31, 2011). The Department extended the time limit for the preliminary results by 90 days on October 20, 2011.¹ The preliminary results are currently due no later than January 29, 2012.²

¹ See Certain Frozen Warmwater Shrimp From the Socialist Republic of Vietnam: Extension of Preliminary Results of Antidumping Duty Administrative Review, 76 FR 65178 (October 20, 2011).

² The 90 day extension FR noted the deadline was extended to January 30, 2012, However, this was because the initial 90 day extension to January 29, 2012 fell on a Sunday. As a result, per Department practice, the deadline fell to the next business day. See Notice of Clarification: Application of “Next Business Day” Rule for Administrative Determination Deadlines Pursuant to the Tariff Act of 1930, as Amended, 70 FR 24533 (May 10, 2005).

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit of Preliminary Results

We determine that it is not practicable to complete the preliminary results of this administrative review within the original time limit because the Department requires additional time to analyze the questionnaire responses, which include substantial sales and factor information, issue supplemental questionnaires, evaluate surrogate value submissions, and conduct an on-site verification.

Therefore, in accordance with section 751(a)(3)(A) of the Act and 19 CFR 351.213(h)(2), the Department is extending the time limit for the preliminary results by 30 days, until February 28, 2012. The final results continue to be due 120 days after the publication of the preliminary results.

We are issuing and publishing this notice in accordance with sections 751(a)(3)(A) and 777(i) of the Act.

Dated: January 13, 2012.
Christian Marsh,
Deputy Assistant Secretary for Antidumping and Countervailing Duty Operations.

[FR Doc. 2012-1110 Filed 1-19-12; 8:45 am]

BILLING CODE 3510-DS-P